DEPARTMENT OF DEFENSE

Office of the Secretary

Defense Business Board; Notice of Change to Federal Advisory Committee Meeting Agenda

AGENCY: Office of the Deputy Secretary of Defense, Department of Defense (DoD).

ACTION: Notice of change to Federal Advisory Committee meeting agenda.

SUMMARY: The DoD is publishing this notice to announce changes to the agenda of the November 9-10, 2022 meeting of the Defense Business Board (“the Board”), which was previously published on October 13, 2022.

DATES: Closed to the public Wednesday, November 9, 2022 from 11:10 a.m. to 12:05 p.m., 3:25 p.m. to 5:05 p.m., and from 5:30 p.m. to 7:35 p.m. Open to the public Thursday, November 10, 2022 from 8:30 a.m. to 12:35 p.m. All eastern time.

ADDRESSES: The open and closed portions of the meeting were in the Joint Staff Conference Center Room 1E840 and Air Force Mess Room 4D880 in the Pentagon, Washington, DC. As previously stated, participation in the open portion of meetings, see the Meeting Accessibility section for instructions.

FOR FURTHER INFORMATION CONTACT: Ms. Jennifer Hill, Designated Federal Officer (DFO) of the Board in writing at Defense Business Board, 1155 Defense Pentagon, Room 5B1088A, Washington, DC 20301-1155; or by email at jennifer.s.hill4.civ@mail.mil; or by phone at 571-342-0070.

SUPPLEMENTARY INFORMATION: This meeting was held under the provisions of the Federal Advisory Committee Act (FACA) (5 U.S.C. Appendix), the Government in the Sunshine Act (5 U.S.C. 552b), and 41 CFR 102-3.140 and 102-3.150.

Due to circumstances beyond the control of the Designated Federal Officer, the Defense Business Board was unable to provide the public notification required by 41 CFR 102-3.150(a) to announce changes to its November 9-10, 2022 meeting agenda that was previously published on October 13, 2022. See 87 FR 62084-62085. Accordingly, the Advisory Committee Management Officer for the Department of Defense, pursuant to 41 CFR 102-3.150(b), waives the 15-calendar day notification requirement.

Purpose of the Meeting: The mission of the Board is to examine and advise the Secretary of Defense on overall DoD management and governance. The Board provides independent, strategic-level, private sector and academic advice and counsel on enterprise-wide business management approaches and best practices for business operations and achieving National Defense goals.

Agenda: The amended agenda has the Board beginning in closed session on November 9, 2022 from 11:10 a.m. to 12:05 p.m. with opening remarks by Ms. Jennifer Hill, the DFO. The Board received a classified brief on the resiliency of the Defense Industrial Base from the Honorable Kathleen Hicks, Deputy Secretary of Defense, and the Honorable Deborah G. Rosenblum, Performing the Duties of the Assistant Secretary of Defense for Industrial Base Policy. The DFO then adjourned the closed session. The Board reconvened in closed session on November 9, 2022 at 3:25 p.m. to 5:05 p.m. Next, the Board received a classified update on DoD Events by the Honorable Lloyd J. Austin III, Secretary of Defense, followed by a classified discussion on streamlining DoD intelligence processes by the Honorable Ronald S. Moultrie, Under Secretary of Defense for Intelligence & Security. The DFO then adjourned the closed session. The Board met in closed session on November 9, 2022 from 5:30 p.m. to 7:35 p.m. The DFO opened the closed session followed by the Chair's remarks, and remarks from Deputy Secretary of Defense Hicks. The Board received a classified discussion by the Honorable Heidi Shyu, Under Secretary of Defense for Research and Engineering, on how the Department is preparing for future conflicts. The DFO adjourned the closed session. The Board began in an open session on November 10, 2022 at 8:30 a.m. with opening remarks by the DFO and Chair's welcome to members and guests. Next, the Board received a presentation and then deliberated and voted on the Board's “Recommendations to Improve Department of Defense Business Health Metrics” study led by Ms. Erin Hill, Chair, Business Transformation Advisory Subcommittee. The Board then received an update on DoD civilian training by the Honorable Gilbert Cisneros, Under Secretary of Defense for Personnel and Readiness, and Mr. Tom Constable, Acting Assistant Secretary of Defense, Manpower and Reserve Affairs. The Honorable Michael B. Donley, Director, Administration and Management, presented a follow-up brief on the dissolution of the Office of the Chief Management Officer and current business improvement efforts. Closing remarks by the Chair and the DFO adjourned the open session. The latest version of the agenda is available on the Board's website: https://dbb.defense.gov/Meetings/Meeting-November-2022/.

Meeting Accessibility: In accordance with Section 10(d) of the FACA and 41 CFR 102-3.155, and as previously published on October 13, 2022, it was determined that portions of the November 9-10, 2022 meeting of the Board included classified information and other matters covered by 5 U.S.C. 552b(c)(1) and that, accordingly, the meeting was closed to the public on November 9, 2022 from 11:10 a.m. to 12:05 p.m., from 3:25 p.m. to 5:05 p.m. and from 5:30 p.m. to 7:35 p.m. This determination was based on the consideration that it is expected that discussions throughout these periods will involve classified matters of national security. Such classified material is so intertwined with the unclassified material that it cannot reasonably be segregated into separate discussions without defeating the effectiveness and meaning of these portions of the meeting. To permit these portions of the meeting to be open to the public would have precluded discussion of such matters and would greatly diminish the ultimate utility of the Board's findings and recommendations to the Secretary of Defense and to the Deputy Secretary of Defense. Pursuant to section 10(a)(1) of the FACA and 41 CFR 102-3.140, the portion of the meeting on November 10, 2022 from 8:30 a.m. to 12:35 p.m. was open to the public. As previously published and announced, persons that desired to attend the public session were required to register and submit your name, affiliation/organization, telephone number, and email contact information to the Board at osd.pentagon.odam.mbx.defense-business-board@mail.mil.

Written Comments and Statements: Pursuant to 41 CFR 102-3.105(j) and 102-3.140 and section 10(a)(3) of the FACA, the public or interested organizations may submit written comments or statements to the Board in response to the stated agenda of the meeting or regarding the Board's mission in general. Written comments or statements should be submitted to Ms. Jennifer Hill, the DFO, via electronic mail at the address listed in the FOR FURTHER INFORMATION CONTACT section. Each page of the comment or statement must include the author's name, title or affiliation, address, and daytime phone number. The DFO must have received all written comments or statements submitted in response to the agenda set forth in this notice by Wednesday, November 2, 2022 to be considered by the Board. Written comments or statements received after this date may not be provided to the Board until its next scheduled meeting. Please note that all submitted comments and statements will be treated as public documents and will be made available for public inspection, including, but not limited to, being posted on the Board's website.

Dated: November 17, 2022.
Aaron T. Siegel,
Alternate OSD Federal Register Liaison Officer, Department of Defense.

[FR Doc. 2022-25442 Filed 11-21-22; 8:45 am]

BILLING CODE 5001-06-P